FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: The Federal Emergency Management Agency/Federal Insurance Administration's Cover America II Project.

Type of Information Collection: Reinstatement, with change, of a previously approved collection for which approval has expired.

OMB Number: 3067-0267.

Abstract: FEMA/Federal Insurance Administration will conduct research with consumers, business-owners and insurance agents to (1) establish flood insurance in the minds of consumers as the best method for recovering from flood damage, (2) promote flood insurance as must-have protection that is easily available and relatively inexpensive; and (3) stimulate demand for flood insurance by linking it to strong positive motivators, such as peace of mind and financial security.

Affected Public: Individuals or households, Business or Other For-Profit, Not For-Profit Institutions and State, Local or Tribal Government.

Estimated Total Annual Burden Hours: 3,082.

FY 2000 | Number of respondents | Response frequency | Burden per respondent | Total burden hours
Quantitative Tracking—Time I | 1,200 Consumers 300 Agents | 1 | 25 | 500 Consumers. 250 Agents.
Quantitative Tracking—Time II | 1,200 Consumers 300 Agents | 1 | 25 | 500 Consumers. 250 Agents.
Satisfaction with Flood | 900 Consumers | 1 | 20 | 300 Consumers.
Insurance Program Study (once a year) | 300 Agents 10 WYOs |  |  | 100 Agents. 3 WYOs.
Stage I—Preliminary Advertising Development among Consumers | 80 | 1 | 120 | 160.
Stage II—Evaluation of Agent Advertising | 200 | 1 | 120 | 400.
Lender Survey—Time I | 300 | 2 | 20 | 100.
Lender Survey—Time II | 300 | 2 | 20 | 100.
Radio Test (Pre Ad Implementation | 200 | 4 | 10 | 133.
Radio Test (Post Ad Implementation | 200 | 4 | 10 | 133.
Insurance Agents' Satisfaction with NFIP Co-op Advertising Program | 700 | 1 | 10 | 117.
After the Flood Contest—Agents | 250 | 1 | 60 | 250.
After the Flood Contest—Consumers | 250 | 1 | 5 | 21.
National Flood Insurance Leads Application Form | 448 | 1 | 2 | 15.
Total | 5,138 |  | 387 | 3,082.

Cost to Respondents: $10,026,000.

Cost to Federal Government: $1,153,187,000.

Comments

Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, FEMA Information Collections Officer, Federal Emergency Management Agency, 500 C Street, SW., Room 316, Washington, DC 20472. Telephone number (202) 646-2625. FAX (202) 646-3524 or email muriel.anderson@fema.gov.

Virginia Akers,
Acting Director, Program Services Division, Operations Support Directorate.

[FR Doc. 00-11262 Filed 5-4-00; 8:45 am]

BILLING CODE 6718-01-P